DEPARTMENT OF ENERGY

Federal Energy Regulatory Commission

Combined Notice of Filings

Take notice that the Commission has received the following Natural Gas Pipeline Rate and Refund Report filings:

Filings Instituting Proceedings

Docket Numbers: PR16-28-000.

Applicants: Bay Gas Storage Company, Ltd.

Description: Tariff filing per 284.123/.224: 2016 Annual Adjustment of Company Use Percentage to be effective 3/1/2016; Filing Type: 790.

Filed Date: 2/24/16.

Accession Number: 201602245071.

Comments/Protests Due: 5 p.m. ET 3/24/16.

Docket Numbers: PR14-55-000.

Applicants: Arkansas Oklahoma Gas Corporation.

Description: Annual Report under PR14-55.

Filed Date: 2/25/16.

Accession Number: 201602255170.

Comments/Protests Due: 5 p.m. ET 3/28/16.

Docket Numbers: PR14-23-002.

Applicants: Kansas Gas Service, A Division of ONE Gas, Inc.

Description: Tariff filing per 284.123/.224: KGS, Revision to Requirements for Transportation Service to be effective 4/1/2016; Filing Type: 790.

Filed Date: 3/16/16.

Accession Number: 201603165106.

Comments/Protests Due: 5 p.m. ET 3/28/16.

Docket Numbers: RP15-1022-000.

Applicants: Alliance Pipeline L.P.

Description: Report Filing: 2016-03 Sheet 92.

Filed Date: 3/10/16.

Accession Number: 20160310-5126.

Comments Due: 5 p.m. ET 3/22/16.

Docket Numbers: RP16-719-000.

Applicants: Algonquin Gas Transmission, LLC.

Description: Section 4(d) Rate Filing: Negotiated Rates—Con Ed Release to Buy Energy to be effective 3/11/2016.

Filed Date: 3/10/16.

Accession Number: 20160310-5122.

Comments Due: 5 p.m. ET 3/22/16.

Docket Numbers: RP16-720-000.

Applicants: Gulf South Pipeline Company, LP.

Description: Section 4(d) Rate Filing: Remove expired agreements from Tariff (3/11/2016) to be effective 4/1/2016.

Filed Date: 3/11/16.

Accession Number: 20160311-5009.

Comments Due: 5 p.m. ET 3/23/16.

Docket Numbers: RP16-721-000.

Applicants: CenterPoint Energy Services, Inc.,Continuum Energy Services, L.L.C.

Description: Petition for Commission Approval of Request for Temporary Waivers of Capacity Release Regulations and Actions Necessary to Permit the Transfer of Gas Supply, Sale and Transportation Contracts ofCenterPoint Energy Services, Inc., et al.

Filed Date: 3/11/16.

Accession Number: 20160311-5238.

Comments Due: 5 p.m. ET 3/24/16.

Docket Numbers: RP16-722-000.

Applicants: Texas Eastern Transmission, LP.

Description: Section 4(d) Rate Filing: Cleanup Filing to Remove Customer Names from Statements of Rates to be effective 4/14/2016.

Filed Date: 3/14/16.

Accession Number: 20160314-5088.

Comments Due: 5 p.m. ET 3/28/16.

Docket Numbers: RP16-723-000.

Applicants: Enable Gas Transmission, LLC.

Description: Section 4(d) Rate Filing: Negotiated Rate Filing- March 2016 LER 1005896 to be effective 3/14/2016.

Filed Date: 3/14/16.

Accession Number: 20160314-5138.

Comments Due: 5 p.m. ET 3/28/16.

Docket Numbers: RP16-724-000.

Applicants: Rager Mountain Storage Company LLC.

Description: Section 4(d) Rate Filing: Form of Service Agreement Modifications to be effective 4/15/2016.

Filed Date: 3/15/16.

Accession Number: 20160315-5096.

Comments Due: 5 p.m. ET 3/28/16.

Docket Numbers: RP16-725-000.

Applicants: Natural Gas Pipeline Company of America.

Description: Section 4(d) Rate Filing: Occidental Energy Marketing to be effective 4/1/2016.

Filed Date: 3/15/16.

Accession Number: 20160315-5120.

Comments Due: 5 p.m. ET 3/28/16.

Docket Numbers: RP16-726-000.

Applicants: Algonquin Gas Transmission, LLC.

Description: Section 4(d) Rate Filing: Negotiated Rates—BBPC, d/b/a Great Eastern Energy—791351 to be effective 4/1/2016.

Filed Date: 3/16/16.

Accession Number: 20160316-5099.

Comments Due: 5 p.m. ET 3/28/16.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP15-1322-003.

Applicants: Sabine Pipe Line LLC.

Description: Compliance filing Sabine Motion to Place Rates into Effect 3-16-16 to be effective 4/1/2016.

Filed Date: 3/16/16.

Accession Number: 20160316-5103.

Comments Due: 5 p.m. ET 3/28/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 17, 2016.
Nathaniel J. Davis, Sr.,
Deputy Secretary.

[FR Doc. 2016-06805 Filed 3-24-16; 8:45 am]

BILLING CODE 6717-01-P